DEPARTMENT OF THE INTERIOR

Bureau of Land Management

[LLHQ430000.L12200000.PM0000; OMB Control No. 1004-0NEW]

Agency Information Collection Activities; Surveys and Focus Groups To Support Outcomes-Focused Management (Recreation Survey and Focus Groups)

AGENCY: Bureau of Land Management, Interior.

ACTION: Notice of information collection; request for comment.

SUMMARY: In accordance with the Paperwork Reduction Act of 1995 (PRA), the Bureau of Land Management (BLM) proposes a new information collection.

DATES: Interested persons are invited to submit comments on or before August 27, 2021.

ADDRESSES: Send your written comments on this information collection request (ICR) by mail to Darrin King, Information Collection Clearance Officer, U.S. Department of the Interior, Bureau of Land Management, Attention PRA Office, 440 W 200 S #500, Salt Lake City, UT 84101; or by email to BLM_HQ_PRA_Comments@blm.gov. Please reference Office of Management and Budget (OMB) Control Number 1004-0NEW (Recreation Survey) in the subject line of your comments. Please note that due to COVID-19, the electronic submission of comments is recommended.

FOR FURTHER INFORMATION CONTACT: To request additional information about this ICR, contact Matt Blocker, Outdoor Recreation Planner, by email at mblocker@blm.gov, or by telephone at (801) 539-4011. Individuals who are hearing or speech impaired may call the Federal Relay Service at 1-800-877-8339 for TTY assistance.

SUPPLEMENTARY INFORMATION: In accordance with the Paperwork Reduction Act of 1995 (44 U.S.C. 3501 et seq.) and 5 CFR 1320.8(d)(1), all information collections require approval under the PRA. The BLM may not conduct or sponsor a collection of information, and a response to a request for information is not required, unless it displays a currently valid OMB control number.

As part of our continuing effort to reduce paperwork and respondent burdens, we invite the public and other Federal agencies to comment on new, proposed, revised, and continuing collections of information. This helps the BLM assess impacts of its information collection requirements and minimize the public's reporting burden. It also helps the public understand BLM information collection requirements and provide the requested data in the desired format.

The BLM is especially interested in public comment addressing the following:

(1) Whether collection of information is necessary for the proper performance of the functions of the agency, including whether or not the information will have practical utility;

(2) determination of the accuracy of BLM's estimate of the burden for collection of information, including the validity of the methodology and assumptions used;

(3) methods to enhance the quality, utility, and clarity of the information to be collected; and

(4) how might the agency minimize the burden of information collection on those who respond, including use of appropriate automated, electronic, mechanical, or other technological collection techniques or other forms of information technology, e.g., permitting electronic submission of response.

Comments submitted in response to this notice are a matter of public record. The BLM will include or summarize each comment in its request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Information will be collected from visitors of public lands and residents of communities near public lands. Information gathered from visitors and local community residents will be used to inform planning decisions in support of BLM's Planning for Recreation and Visitor Services Handbook H-8320-1. This request is for OMB to approve these new surveys and focus groups for three years.

Title of Collection: Surveys and Focus Groups to Support Outcomes-Focused Management (Recreation Survey and Focus Groups).

OMB Control Number: 1004-0NEW.

Form Numbers: None.

Type of Review: New collection (Request for a new OMB Control Number).

Respondents/Affected Public: Individuals or households.

Total Estimated Number of Annual Respondents: 6,275.

Total Estimated Number of Annual Responses: 7,380.

Estimated Completion Time per Response: Varies from 1 minute to answer an on-site survey to 90 minutes to participate in a focus group.

Total Estimated Number of Annual Burden Hours: 2,108.

Respondent's Obligation: Voluntary.

Frequency of Collection: On occasion.

Total Estimated Annual Nonhour Burden Cost: None.

An agency may not conduct or sponsor and, notwithstanding any other provision of law, a person is not required to respond to a collection of information unless it displays a currently valid OMB control number.

The authority for this action is the Paperwork Reduction Act of 1995 (44 U.S.C. 3501 et seq.).

Darrin A. King,
Information Collection Clearance Officer.

[FR Doc. 2021-13649 Filed 6-25-21; 8:45 am]

BILLING CODE 4310-84-P